FEDERAL COMMUNICATIONS COMMISSION

Notice of Public Information Collection(s) Being Submitted to OMB for Review and Approval

May 23, 2005.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 1, 2005. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

FOR FURTHER INFORMATION CONTACT: For additional information concerning this information collection(s) contact Cathy Williams at (202) 418-2918 or via the Internet at Cathy.Williams@fcc.gov.

SUPPLEMENTARY INFORMATION: OMB Control Number: 3060-0419.

Title: Section 76.94, Notification; Section 76.95, Exceptions; Section 76.105, Notifications; Section 76.106, Exceptions; Section 76.107, Exclusivity Contracts; and Section 76.1609, Non-Duplication and Syndicated Exclusivity.

Form Number: Not applicable.

Type of Review: Extension of a currently approved collection.

Respondents: Business or other for-profit entities.

Number of Respondents: 5,555.

Estimated Time per Response: 30 minutes-2 hours.

Frequency of Response: One time requirement; Third party disclosure requirement.

Total Annual Burden: 183,856 hours.

Total Annual Cost: None.

Privacy Impact Assessment: No impact(s).

Needs and Uses: FCC Rules under 47 CFR sections 76.94, 76.95, 76.105, 76.106, 76.107 and 76.1609, require, among other things, that television stations, broadcast television stations, and program distributors notify cable system operators of non-duplication protection and exclusivity rights being sought within prescribed limitations and terms of contractual agreements. The various notification and disclosure requirements protect broadcasters that purchase the exclusive rights to transmit syndicated programming in their recognized markets.

OMB Control Number: 3060-0548.

Title: Section 76.1708, Principal Headend; Sections 76.1709 and 76.1620, Availability of Signals; Section 76.56, Signal Carriage Obligations; Section 76.1614, Identification of Must-Carry Signals.

Form Number: Not applicable.

Type of Review: Extension of a currently approved collection.

Respondents: Business or other for-profit entities.

Number of Respondents: 8,250.

Estimated Time per Response: 0.5-1.0 hour.

Frequency of Response: Recordkeeping requirement; On occasion reporting requirement; Third party disclosure requirement.

Total Annual Burden: 49,500 hours.

Total Annual Cost: None.

Privacy Act Impact Assessment: No impact(s).

Needs and Uses: 47 CR 76.1708 requires a cable system to designate the location of its principal headend. 47 CFR 76.1709 was previously reported as § 76.302, which requires the operator of every cable television system to maintain a public inspection file containing a list of all broadcast television stations carried by its system in fulfillment of the must-carry requirements pursuant to § 76.1620 and the designation and location of its principal headend. Sections 76.1709 and 76.1620 state that upon written request from any person, a cable operator is required to provide the lists of must-carried signals in writing within 30 days of receipt of such request. Additionally, § 76.1620 states that if a cable operator authorizes subscribers to install additional receiver connections, but does not provide the subscriber with such connections, or with the equipment and materials for such connections, the operator shall notify such subscribers of all broadcast stations carried on the cable system which cannot be viewed via cable without a converter box and shall offer to sell or lease such a converter box to such subscribers. The notice, which may be included in routine billing statements, shall identify the signals that are unavailable without an additional connection, the manner for obtaining such additional connection, and instructions for installation. These notification and recordkeeping requirements ensure that subscribers are aware of which channels cannot be viewed without converter boxes and which channels are defined as must-carry. The records kept by cable television systems are reviewed by Commission staff during field inspections and by local public officials to assess the system's compliance with applicable rules and regulations. 47 CFR 76.1614 states that a cable operator shall respond in writing within 30 days to any written request by any person for the identification of the signals carried on its system in fulfillment of the must-carry requirements of § 76.56.

Federal Communications Commission.
Marlene H. Dortch,
Secretary.

[FR Doc. 05-10656 Filed 5-31-05; 8:45 am]

BILLING CODE 6712-01-P